DEPARTMENT OF LABOR

Employment and Training Administration

Notice on Reallotment of Workforce Investment Act (WIA) Title I Formula Allotted Funds for Dislocated Worker Activities for Program Year (PY) 2012

AGENCY: Employment and Training Administration, Labor.

ACTION: Notice.

SUMMARY: Public Law 105-220, the Workforce Investment Act (WIA), requires the Secretary of Labor (Secretary) to conduct reallotment of dislocated worker formula allotted funds based on State financial reports submitted as of the end of the prior program year (PY). This notice publishes the dislocated worker PY 2012 funds for recapture by State and the amount to be reallotted to eligible States.

DATES: This notice is effective April 2, 2013.

FOR FURTHER INFORMATION CONTACT: Ms. Amanda Ahlstrand, Acting Administrator, U.S. Department of Labor, Office of Workforce Investment, Employment and Training Administration, Room C-4526, 200 Constitution Avenue NW, Washington, DC Telephone (202) 693-3052 (this is not a toll-free number) or fax (202) 693-3981.

SUPPLEMENTARY INFORMATION: WIA Section 132(c) requires the Secretary to conduct reallotment of dislocated worker funds based on financial reports submitted by States as of the end of the prior program year. The procedures the Secretary uses for recapture and reallotment of funds are described in WIA regulation at 20 CFR 667.150. Training and Employment Guidance Letter 19-11 advised States that reallotment of funds under WIA will occur during PY 2012 based on State obligations made in PY 2011. We will not recapture any PY 2012 funds for Adult and Youth programs because in no case do PY 2011 unobligated funds exceed the statutory requirement of 20 percent of State allotted funds. There was recapture of WIA Dislocated Worker funds in PY 2011, but no reallotment of those funds.

Excess unobligated State funds in the amount of $69,038 will be captured from PY 2012 formula allotted funds for the Dislocated Worker program for one State and distributed by formula to PY 2012 dislocated worker funds for eligible States. The description of the methodology used for the calculation of the recapture/reallotment amounts and the distribution of the changes to PY 2012 formula allotments for dislocated worker activities are provided in Attachment C below.

WIA Section 132(c) requires the Governor to prescribe equitable procedures for making funds available from the State and local areas in the event that the State is required to make funds available for reallotment.

I. Attachment A

U.S. DEPARTMENT OF LABOR
Employment and Training Administration, WIA Dislocated Worker Activities, PY 2012 Reallotment to States
| Excess unobligated PY 2011 funds for recapture in PY 2012 | PY 2011 * dislocated worker allotments for eligible states | PY 2012 reallotment amount for eligible states | Total PY 2012 allotments | Total adjustment to PY 2012 (recapture/ reallotment) | Revised total PY 2012 allotments
Alabama | 0 | 16,103,978 | 1,050 | 15,469,879 | 1,050 | 15,470,929
Alaska | 0 | 1,801,832 | 117 | 1,617,337 | 117 | 1,617,454
Arizona ** | 0 | 21,958,487 | 1,432 | 21,499,925 | 1,432 | 21,501,357
Arkansas | 0 | 6,525,077 | 425 | 7,022,211 | 425 | 7,022,636
California | 0 | 170,043,518 | 11,086 | 167,279,720 | 11,086 | 167,290,806
Colorado | 0 | 13,947,918 | 909 | 16,138,114 | 909 | 16,139,023
Connecticut | 0 | 12,099,340 | 789 | 12,425,813 | 789 | 12,426,602
Delaware | 0 | 2,523,025 | 164 | 2,364,143 | 164 | 2,364,307
District of Columbia | 69,038 | 0 | 0 | 2,584,544 | (69,038) | 2,515,506
Florida | 0 | 81,146,334 | 5,290 | 77,488,229 | 5,290 | 77,493,519
Georgia | 0 | 35,448,102 | 2,311 | 36,619,541 | 2,311 | 36,621,852
Hawaii | 0 | 2,535,324 | 165 | 2,544,104 | 165 | 2,544,269
Idaho | 0 | 4,234,037 | 276 | 4,848,656 | 276 | 4,848,932
Illinois | 0 | 52,311,422 | 3,411 | 45,174,858 | 3,411 | 45,178,269
Indiana | 0 | 22,936,088 | 1,495 | 19,764,183 | 1,495 | 19,765,678
Iowa | 0 | 6,212,899 | 405 | 5,396,211 | 405 | 5,396,616
Kansas | 0 | 5,771,477 | 376 | 6,269,130 | 376 | 6,269,506
Kentucky | 0 | 14,962,447 | 976 | 14,426,545 | 976 | 14,427,521
Louisiana | 0 | 8,755,097 | 571 | 10,053,020 | 571 | 10,053,591
Maine * | 0 | 3,342,209 | 218 | 3,411,860 | 218 | 3,412,078
Maryland | 0 | 14,280,338 | 931 | 13,446,336 | 931 | 13,447,267
Massachusetts | 0 | 21,033,198 | 1,371 | 18,123,153 | 1,371 | 18,124,524
Michigan | 0 | 51,206,873 | 3,339 | 37,950,243 | 3,339 | 37,953,582
Minnesota | 0 | 12,869,603 | 839 | 12,016,430 | 839 | 12,017,269
Mississippi | 0 | 10,134,604 | 661 | 10,347,245 | 661 | 10,347,906
Missouri | 0 | 19,157,714 | 1,249 | 19,339,341 | 1,249 | 19,340,590
Montana | 0 | 2,044,172 | 133 | 2,228,454 | 133 | 2,228,587
Nebraska | 0 | 2,056,541 | 134 | 1,769,045 | 134 | 1,769,179
Nevada | 0 | 14,310,158 | 933 | 14,404,698 | 933 | 14,405,631
New Hampshire | 0 | 2,760,460 | 180 | 2,023,863 | 180 | 2,024,043
New Jersey | 0 | 32,201,066 | 2,099 | 30,891,644 | 2,099 | 30,893,743
New Mexico ** | 0 | 5,171,897 | 337 | 4,691,620 | 337 | 4,691,957
New York | 0 | 55,804,488 | 3,638 | 53,040,830 | 3,638 | 53,044,468
North Carolina | 0 | 35,042,869 | 2,285 | 33,775,540 | 2,285 | 33,777,825
North Dakota | 0 | 499,156 | 33 | 491,586 | 33 | 491,619
Ohio | 0 | 44,012,508 | 2,869 | 37,410,700 | 2,869 | 37,413,569
Oklahoma | 0 | 6,906,804 | 450 | 5,818,181 | 450 | 5,818,631
Oregon | 0 | 15,054,272 | 981 | 14,179,357 | 981 | 14,180,338
Pennsylvania | 0 | 37,914,512 | 2,472 | 33,628,882 | 2,472 | 33,631,354
Puerto Rico | 0 | 13,675,088 | 892 | 13,792,527 | 892 | 13,793,419
Rhode Island | 0 | 5,096,307 | 332 | 4,729,397 | 332 | 4,729,729
South Carolina | 0 | 19,157,131 | 1,249 | 17,247,928 | 1,249 | 17,249,177
South Dakota | 0 | 839,629 | 55 | 914,615 | 55 | 914,670
Tennessee | 0 | 22,094,179 | 1,440 | 21,002,405 | 1,440 | 21,003,845
Texas | 0 | 61,926,140 | 4,037 | 65,045,270 | 4,037 | 65,049,307
Utah** | 0 | 6,053,827 | 395 | 6,236,314 | 395 | 6,236,709
Vermont | 0 | 1,242,041 | 81 | 1,060,351 | 81 | 1,060,432
Virginia | 0 | 18,453,304 | 1,203 | 16,429,934 | 1,203 | 16,431,137
Washington | 0 | 22,238,858 | 1,450 | 22,715,887 | 1,450 | 22,717,337
West Virginia | 0 | 4,552,003 | 297 | 4,805,556 | 297 | 4,805,853
Wisconsin | 0 | 17,319,011 | 1,129 | 15,286,735 | 1,129 | 15,287,864
Wyoming | 0 | 1,199,212 | 78 | 909,374 | 78 | 909,452
State total | $69,038 | $1,058,966,574 | $69,038 | $1,008,151,464 | $0 | $1,008,151,464
* Including rescissions based on the statutory formula and prior year recapture amount for Maine. No reallotment occurred; therefore, no reallotment amounts are included.
** Includes Navajo Nation.
1/11/2013

BILLING CODE 4510-30-P

BILLING CODE 4510-30-C

III. Attachment C

Dislocated Worker State Formula PY 2012 Reallotment Methodology

Reallotment Summary: This year ETA analyzed State WIA Dislocated Worker 9130 financial reports from the June 30, 2012 reporting period for program year (PY) 2011 to determine if any State had unobligated funds in excess of twenty percent of their PY 2011 allotment amount. If so, we will recapture that amount from PY 2012 funds and reallot among eligible States.

• Source Data: State WIA 9130 financial status reports

• Programs:

State Dislocated Worker (DW)

State Rapid Response

Local Dislocated Worker (includes local administration)

• Period: June 30, 2012

• Years covered: PY 2011 and FY 2012

Reallotment Calculations:

(1) ETA computes the State's total amount of PY 2011 State obligations (including Fiscal Year (FY) 2012 funds) for the Dislocated Worker (DW) program. State obligations are considered to be the total of the DW statewide activities obligations, Rapid Response obligations, and 100 percent of local DW program authorized (which includes local admin authorized). The State's total unobligated balance for the DW program is the PY 2011 DW allotment amount (minus the total DW obligations) (adjusted for recapture/reallotment and statutory formula-based rescissions, if applicable. This year a rescission was applicable to all States that the recapture for Maine was applicable, but reallotment for all other States was not applicable). (For reallotment purposes, DW allotted funds transferred to the Navajo Nation are added back to Arizona, New Mexico, and Utah Local DW authorized amounts.)

(2) Section 667.150 of the regulations provides that the recapture calculations exclude the reserve for state administration. Data on State administrative authorized and obligated amounts are not normally available on WIA 9130 financial reports. In the preliminary calculation to determine States potentially liable for recapture, the DW portion of the State administrative amount authorized is estimated by calculating the five percent maximum amount for State DW administrative costs using the DW State allotment amounts (adjusted for recapture/reallotment and statutory formula-based rescissions). For the DW portion of the State administrative amount obligated, 100 percent of the estimated authorized amount is treated as obligated, although this estimate of State administration obligations is limited by reported statewide activities obligations overall.

(3) ETA requests that those States potentially liable for recapture provide additional data on state administrative amounts which are not regularly reported on the PY 2011 and FY 2012 statewide activities reports. The additional information requested is the amount of statewide activities funds that were authorized and obligated for State administration as of June 30, 2012. If a State provides actual State DW administrative costs, authorized and obligated, in the comments section of revised 9130 reports, this data replaces the estimates. Based on the requested additional actual data submitted by potentially liable States on revised reports, the DW total allotment for these States is reduced by the DW portion of the State administrative amount authorized. Likewise, the DW total obligations for these States are reduced by the DW portion of the obligated State administrative funding.

(4) States (including those adjusted by State administrative data) with unobligated balances exceeding 20 percent of the combined PY2011/FY2012 DW allotment amount (adjusted for recapture/reallotment and statutory formula-based rescissions) will have their PY 2012 DW funding (from the FY 2013 portion) reduced (recaptured) by the amount of the excess.

(5) Finally, States with unobligated balances which do not exceed 20 percent (eligible states) will receive a share of the total recaptured amount (based on their share of the total PY 2011/FY2012 DW allotments of eligible states) in their PY 2012 DW funding (FY 2013 portion).

Signed at Washington, DC, this 19th day of March, 2013.
Jane Oates,
Assistant Secretary for the Employment and Training Administration.

[FR Doc. 2013-07570 Filed 4-1-13; 8:45 am]

BILLING CODE 4510-30-P